DEPARTMENT OF HEALTH AND HUMAN SERVICES

Office of the Secretary

Office of Minority Health; Notice of a Cooperative Agreement With the National Council of La Raza

AGENCY: Office of the Secretary, Office of Minority Health.

ACTION: Notice of a cooperative agreement with the National Council of La Raza.

The Office of Minority Health (OMH), Office of Public Health and Science, announces its intent to continue support of the umbrella cooperative agreement with the National Council of La Raza (NCLR). This cooperative agreement will continue the broad programmatic framework in which specific projects can be supported by various governmental agencies during the project period.

The purpose of this cooperative agreement is to support the efforts of the NCLR in expanding and enhancing its activities relevant to education, service delivery, health prevention, health promotion, and health research opportunities, with the ultimate goal of improving the health status of minorities and disadvantaged people.

The OMH will provide technical assistance and oversight as necessary for the implementation, conduct, and assessment of the project activities. On an as-needed basis, OMH will assist in arranging consultation from other government agencies and non-government agencies.

Authority

This cooperative agreement is authorized under Section 1707(e)(1) of the Public Health Service Act, as amended.

Background

Assistance will continue to be provided to NCLR. During the last 5 years, NCLR has successfully demonstrated the ability to work with official health agencies on mutual education, service, and research endeavors. The NCLR is uniquely qualified to continue to accomplish the purposes of this cooperative agreement because it has the following combination of factors:

• It has developed, expanded, and managed an infrastructure to coordinate and implement various health education programs within local communities and physician groups that deal extensively with Hispanic health issues. The NCLR has established a strong network of Hispanic providers, health advocates, and health educators that provide a foundation upon which to develop, promote, and manage health interventions, and client education programs aimed at preventing and reducing unnecessary morbidity and mortality rates among Hispanic populations.

• It has established itself and its members as organizations with professionals who serve as leaders and experts in planning, developing, implementing, and evaluating health education curricula and client-based health prevention programs aimed at reducing excessive mortality and adverse health behaviors among Hispanic populations.

• It has developed databases and directories of health education programs, health care accessibility issues, and professional development initiatives that deal exclusively with Hispanic populations that are necessary for any intervention dealing with Hispanic populations.

• It has assisted in the development of many of the current education, research, disease prevention, and health promotion activities for its members, affiliated groups, and represented subpopulations.

• It has developed national organizations whose members consist of Hispanic physicians, health care providers, researchers and advocates with excellent professional performance records. The NCLR has a broad range of membership that is comprised of mostly Hispanic health care providers.

• It has developed a base of critical knowledge, skills, and abilities related to serving Hispanic clients on a range of health and social problems. Through the collective efforts of its members, its affiliated community-based organizations, sponsored research and sponsored health education and prevention programs, it has demonstrated: (1) The ability to work with academic institutions and official health agencies on mutual education, services, and research endeavors relating to the goal of disease prevention and health promotion of Hispanic peoples; (2) the leadership needed to assist health care professionals work more effectively with Hispanic clients and communities; and (3) the leadership needed to effectively promote health professions careers to Hispanic students who would otherwise not consider such a career path.

This cooperative agreement will be continued for an additional 5-year project period with 12-month budget periods. Depending upon the types of projects and availability of funds, it is anticipated that his cooperative agreement will receive approximately $100,000 per year. Continuation awards within the project period will be made on the basis of satisfactory progress and the availability of funds.

Where To Obtain Additional Information

If you are interested in obtaining additional information regarding this cooperative agreement, contact Ms. Cynthia H. Amis, Office of Minority Health, 5515 Security Lane, Suite 1000, Rockville, Maryland 20852 or telephone (301) 594-0769.

OMB Catalog of Federal Domestic Assistance

The Catalog of Federal Domestic Assistance Number for this cooperative agreement is 93.004.

Dated: June 22, 2000.
Nathan Stinson, Jr.,
Deputy Assistant Secretary for Minority Health.

[FR Doc. 00-17529 Filed 7-11-00; 8:45 am]

BILLING CODE 4160-17-P